DEPARTMENT OF COMMERCE

Foreign-Trade Zones Board

[B-53-2017]

Foreign-Trade Zone (FTZ) 26—Atlanta, Georgia; Authorization of Production Activity; Nisshinbo Automotive Manufacturing, Inc. (Automotive Brake Linings, Pads, and Disc Pads); Covington, Georgia

On August 10, 2017, the Georgia Foreign Trade Zone, Inc., grantee of FTZ 26, submitted a notification of proposed activity to the FTZ Board on behalf of Nisshinbo Automotive Manufacturing, Inc., within FTZ 26, Site 33, in Covington, Georgia.

The notification was processed in accordance with the regulations of the FTZ Board (15 CFR part 400), including notice in the Federal Register inviting public comment (82 FR 41208, August 30, 2017). On December 8, 2017, the applicant was notified of the FTZ Board's decision that no further review of the activity is warranted at this time. The production activity described in the notification was authorized, subject to the FTZ Act and the FTZ Board's regulations, including Section 400.14.

Dated: December 8, 2017.
Elizabeth Whiteman,
Acting Executive Secretary.

[FR Doc. 2017-26852 Filed 12-12-17; 8:45 am]

BILLING CODE 3510-DS-P